Title 3—

The President

Proclamation 7413 of March 5, 2001

Save Your Vision Week, 2001

By the President of the United States of America

A Proclamation

As part of our regular health routine, we often overlook vision. Good vision affects how we work, communicate, and learn. According to the Department of Health and Human Services, about 80 million Americans suffer from potentially blinding eye diseases, 3 million have low vision, and 200,000 more are severely visually impaired.

Visual impairment can strike at any time. Some eye diseases, such as diabetic retinopathy, can develop and damage the eye without warning. Also, visual impairment can develop more often in certain groups. For example, some groups of Americans have a higher risk for glaucoma, including those over the age of 60, African Americans over the age of 40, and people who have a family history of the disease.

Visual impairment can also strike the future of this country: our children. Infants and young children are not immune to eye disorders. Amblyopia, poor vision in an eye that did not develop normal sight during early childhood, causes problems in very early life. Early vision screening is important for our young people to ensure that their eyes receive immediate treatment if problems are found. Also, myopia, or nearsightedness, affects 15 percent of those entering high school.

Many occupations and forms of recreation can present dangers to the eye. Eye protection is a necessity when jobs create the possibility of eye injury. Wearing protective eyewear when playing sports can cut down on eye injury by as much as 90 percent, and wearing eye protection when working in the yard can also reduce the number of serious eye injuries.

The best way to detect eye diseases and disorders is through a dilated eye exam. Many eye problems can be prevented or reversed with early detection and appropriate intervention.

There are many other ways we can help reduce vision disorders. We can make healthy lifestyle choices for ourselves and our families, clinicians can emphasize prevention in their practices, and scientists can pursue new treatments and prevention strategies through research. Using both traditional and innovative approaches, we can all work to make better vision and vision protection an important part of our Nation's public health agenda.

The Congress, by joint resolution approved December 30, 1963 (77 Stat. 629; 36 U.S.C. 138), has authorized and requested the President to proclaim the first week in March of each year as “Save Your Vision Week.”

NOW, THEREFORE, I, GEORGE W. BUSH, President of the United States of America, by virtue of the authority vested in me by the Constitution and laws of the United States, do hereby proclaim March 4 through March 10, 2001, as “Save Your Vision Week.” I urge all Americans to participate by making eye care and eye safety an important part of their lives and to ensure that dilated eye examinations are included in their regular health maintenance programs. I invite eye care professionals, the media, and all public and private organizations dedicated to preserving eyesight to join in activities that will raise awareness of the measures we can take to protect and sustain our vision.

IN WITNESS WHEREOF, I have hereunto set my hand this fifth day of March, in the year of our Lord two thousand one, and of the Independence of the United States of America the two hundred and twenty-fifth.

B

[FR Doc. 01-6043

Filed 3-7-01; 8:45 am]

Billing code 3195-01-P